DEPARTMENT OF THE INTERIOR

Bureau of Ocean Energy Management

[Docket No. BOEM-2015-0141]

Outer Continental Shelf, Gulf of Mexico, Oil and Gas Lease Sale, Central Planning Area Lease Sale 247; MMAA104000

AGENCY: Bureau of Ocean Energy Management (BOEM), Interior.

ACTION: Notice of availability and announcement of public meetings and comment period for the Draft Supplemental Environmental Impact Statement.

SUMMARY: BOEM is announcing the availability of a Draft Supplemental Environmental Impact Statement (EIS) for the proposed Gulf of Mexico (GOM) Outer Continental Shelf (OCS) oil and gas Central Planning Area (CPA) Lease Sale 247 (CPA Lease Sale 247). CPA Lease Sale 247 is tentatively scheduled for March 2017. The Draft Supplemental Environmental Impact Statement provides a discussion of potential significant impacts of the proposed action and provides an analysis of reasonable alternatives to the proposed action. It also considers new information made available since the completion of earlier EISs related to CPA Lease Sale 247. The prior 2012-2017 Gulf of Mexico EISs are available on BOEM's Web site at http://www.boem.gov/nepaprocess/. This Notice of Availability also serves to announce the beginning of the public comment period for the Draft Supplemental Environmental Impact Statement.

In keeping with the Department of the Interior's mission to protect natural resources and to limit costs, while ensuring availability to the public, the Draft Supplemental EIS and associated information are available on BOEM's Web site at http://www.boem.gov/nepaprocess/. BOEM will also distribute digital copies of the Draft Supplemental EIS on compact discs. BOEM will print and distribute a limited number of paper copies. You may request a digital or paper copy of the Draft Supplemental EIS from the Bureau of Ocean Energy Management, Gulf of Mexico OCS Region, Public Information Office (GM 250C), 1201 Elmwood Park Boulevard, Room 250, New Orleans, Louisiana 70123-2394 (1-800- 200-GULF).

DATES: Comments should be submitted no later than April 11, 2016. As described below in the “Comments” section, public comments may also be submitted at public meetings being held on March 14, 15, and 17, 2016.

FOR FURTHER INFORMATION CONTACT: Mr. Gary D. Goeke, Chief, Bureau of Ocean Energy Management, Gulf of Mexico OCS Region, Office of Environment (GM 623E), 1201 Elmwood Park Boulevard, New Orleans, Louisiana 70123-2394, or by email at cpa247@boem.gov. You may also contact Mr. Goeke by telephone at 504-736-3233.

Comments: Federal, State, and local governments and/or agencies; Tribal Nations; and the public (including persons and organizations who may be interested or affected) may submit written comments on the CPA 247 Draft Supplemental Environmental Impact Statement through the following methods:

1. Federal eRulemaking Portal: http://www.regulations.gov. In the field entitled “Search,” enter “BOEM-2015-0401” and then click “search.” Follow the instructions to submit public comments and view supporting and related materials available for this notice;

2. U.S. mail in an envelope labeled “Comments on the Draft CPA 247 Supplemental EIS” and addressed to Mr. Gary D. Goeke, Chief, Environmental Assessment Section, Office of Environment (GM 623E), Bureau of Ocean Energy Management, Gulf of Mexico OCS Region, Office of Environment (GM 623E), 1201 Elmwood Park Boulevard, New Orleans, Louisiana 70123-2394. Comments must be postmarked by the last day of the comment period to be considered. This date is April 11, 2016.

3. Via electronic mail to cpa247@boem.gov.

BOEM will also hold public meetings to solicit comments regarding the CPA 247 Draft Supplemental EIS. The Meetings are scheduled as follows:

• Gulfport, Mississippi: Monday, March 14, 2016, Courtyard by Marriott, Gulfport Beachfront MS Hotel, 1600 East Beach Boulevard, Gulfport, Mississippi 39501, one meeting beginning at 6:00 p.m. CDT;

• Mobile, Alabama: Tuesday, March 15, 2016, Hilton Garden Inn Mobile West, 828 West I-65 Service Road South, Mobile, Alabama 36609, one meeting beginning at 4:00 p.m. CDT; and

• New Orleans, Louisiana: Thursday, March 17, 2016, Bureau of Ocean Energy Management, Gulf of Mexico OCS Region, 1201 Elmwood Park Boulevard, New Orleans, Louisiana 70123, one meeting beginning at 1:00 p.m. CDT.

BOEM does not consider anonymous comments; please include your name and address as part of your submittal. Before including your address, phone number, email address, or other personal identifying information in your comment, you should be aware that your entire comment, including your personal identifying information, may be made publicly available at any time. While you can ask us in your comments to withhold your personal identifying information from public review, we cannot guarantee that we will be able to do so.

Authority: This Notice of Availability is consistent with the National Environmental Policy Act of 1969, as amended (42 U.S.C. 4231 et seq.) (NEPA), and the regulations implementing NEPA, and is published pursuant to 43 CFR 46.415 and 46.435.

Dated: February 10, 2016.
Abigail Ross Hopper,
Director, Bureau of Ocean Energy Management.

[FR Doc. 2016-04114 Filed 2-25-16; 8:45 am]

BILLING CODE 4310-MR-P